ENVIRONMENTAL PROTECTION AGENCY

40 CFR Part 52

[CA 151-0449b; FRL-7660-5]

Revisions to the California and Nevada State Implementation Plans, Ventura County Air Pollution Control District and Clark County Department of Air Quality Management

AGENCY: Environmental Protection Agency (EPA).

ACTION: Proposed rule.

SUMMARY: EPA is proposing to approve revisions to the Ventura County Air Pollution Control District (VCAPCD) portion of the California State Implementation Plan (SIP) and the Clark County Department of Air Quality Management (CCDAQM) portion of the Nevada SIP. These revisions concern ozone and particulate matter ambient air quality standards and the control of sulfur dioxide through the acid deposition program. We are proposing to approve local rules to regulate these emission sources under the Clean Air Act as amended in 1990 (CAA or the Act).

DATES: Any comments on this proposal must arrive by June 21, 2004.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulations.gov.

You can inspect copies of the submitted SIP revisions, EPA's technical support documents (TSDs), and public comments at our Region IX office during normal business hours by appointment. You may also see copies of the submitted SIP revisions by appointment at the following locations:

California Air Resources Board, Stationary Source Division, Rule Evaluation Section, 1001 “I” Street, Sacramento, CA 95814

Ventura County Air Pollution Control District, 669 County Square Drive, Ventura, CA 93003-5417

Nevada Department of Conservation and Natural Resources, Division of Environmental Protection, 333 W. Nye Lane, Room 138, Carson City, NV 89706

Clark County Department of Air Quality Management, 500 S. Grand Central Parkway, Las Vegas, NV 89155-5210

Copies of the VCAPCD and CCDAQM rules may also be available via the Internet at the following sites respectively, http://www.arb.ca.gov/drdb/drdbltxt.htm and http://www.accessclarkcounty.com/air_quality/index.htm. Please be advised that these are not EPA Web sites and may not contain the same versions of the rules that were submitted to EPA.

FOR FURTHER INFORMATION CONTACT: Julie A. Rose, EPA Region IX, (415) 947-4126, rose.julie@epa.gov.

SUPPLEMENTARY INFORMATION: This proposal addresses the following local rules: VCAPCD Rule 35 and CCDAQM Section 11. In the Rules and Regulations section of this Federal Register, we are approving these local rules in a direct final action without prior proposal because we believe these SIP revisions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: April 27, 2004.
Wayne Nastri,
Regional Administrator, Region IX.

[FR Doc. 04-11336 Filed 5-19-04; 8:45 am]

BILLING CODE 6560-50-P